DEPARTMENT OF ENERGY

Agency Information Collection Extension

AGENCY: Bonneville Power Administration, Department of Energy.

ACTION: Submission for Office of Management and Budget (OMB) review; comment request.

SUMMARY: The Department of Energy (DOE), Bonneville Power Administration (BPA), has submitted an information collection request to the OMB for extension under the provisions of the Paperwork Reduction Act of 1995. The information collection requests a three-year extension of its collection, titled Bonneville Power Administration (BPA) Security, OMB Control Number 1910-5188. The proposed collection will be used to determine access to BPA facilities and report incidents of damage or loss. This information is used to manage and oversee personnel and physical security programs.

DATES: Comments regarding this proposed information collection must be received on or before July 5, 2022. If you anticipate any difficulty in submitting comments within that period, contact the person listed in the FOR FURTHER INFORMATION CONTACT section as soon as possible.

ADDRESSES: Written comments and recommendations for the proposed information collection should be sent within 60 days of publication of this notice to www.reginfo.gov/public/do/PRAMain. Find this particular information collection by selecting “Currently under 60 day Review—Open for Public Comments” or by using the search function. Written comments may be sent to Bonneville Power Administration, Attn: Stephanie Noell, Privacy Program, CGI-7, P.O. Box 3621, Portland, OR 97208-3621, or by email at privacy@bpa.gov.

FOR FURTHER INFORMATION CONTACT: Requests for additional information or copies of the information collection instrument and instructions should be directed to Attn: Stephanie Noell, Privacy Program, by email at privacy@bpa.gov, or by phone at (503) 230-3881.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5188;

(2) Information Collection Request Titled: Security;

(3) Type of Review: Extension;

(4) Purpose: This information collection is associated with BPA's management and oversight of access to BPA offices and facilities in order to provide measures to safeguard personnel; to prevent unauthorized access to equipment, facilities, material and documents; to safeguard against espionage, sabotage, and theft: BPA F 1400.22a—Other Utility/Contractor/Vendor Worker Access Request, BPA F 1400.22e—Non-Government Employee Data in HRMIS, BPA F 5630.04e—Security Privilege Request—for BPA Control Centers, BPA F 5632.01e—Security Incident Report, BPA F 5632.08e—Unclassified Visits and Assignments—Foreign Nationals Registration (Short Form), BPA F 5632.09e—Personal Identity Verification (PIV) Request for LSSO/Smart Credential, BPA F 5632.11a—BPA Visitor(s) Access Request—with continuation page, BPA F 5632.11e—BPA Visitor(s) Access Request, BPA F 5632.12e—Evidence/Chain of Custody Document, BPA F 5632.18e—Crime Witness Telephone Report, BPA F 5632.27e—Badge Replacement Request, BPA F 5632.30e—PIN Code Request, BPA F 5632.32e—Card Key Access Request;

(5) Annual Estimated Number of Respondents: 8,033;

(6) Annual Estimated Number of Total Responses: 8,033;

(7) Annual Estimated Number of Burden Hours: 1,508.5;

(8) Annual Estimated Reporting and Recordkeeping Cost Burden: 0.

Statutory Authority: The Bonneville Project Act of 1937, 16 U.S.C. 832a; and the following additional authorities: 5 U.S.C. 1302, 2951, 3301, 3372, 4118, & 8347; 42 U.S.C. 2165 & 7101, et seq; 5 CFR Chapter I parts 5 & 736, E.O. 10450, E.O. 12107, E.O. 12333, E.O. 13284, E.O. 13467, E.O. 13470, E.O. 13488, E.O. 13764, FERC Order No. 706, FIPS 201-2, and HSPD 12.

Signing Authority

This document of the Department of Energy was signed on April 11, 2022 by Candice D. Palen, Information Collection Clearance Manager, Bonneville Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 28, 2022.
Treena V. Garrett,
Federal Register Liaison Officer, U.S. Department of Energy.

[FR Doc. 2022-09482 Filed 5-2-22; 8:45 am]

BILLING CODE 6450-01-P